DEPARTMENT OF TRANSPORTATION

Federal Aviation Administration

14 CFR Part 39

[Docket No. FAA-2015-3883; Product Identifier 2014-SW-029-AD; Amendment 39-19289; AD 2018-11-01]

RIN 2120-AA64

Airworthiness Directives; Airbus Helicopters

AGENCY: Federal Aviation Administration (FAA), DOT.

ACTION: Final rule.

SUMMARY: We are adopting a new airworthiness directive (AD) for Airbus Helicopters Model AS332L2 and EC225LP helicopters. This AD requires installing a cut-out for the left-hand (LH) and right-hand (RH) rail support junction profiles and inspecting splices, frame 5295, and related equipment for a crack. This AD was prompted by reports of cracks on frame 5295 and on splices installed to prevent those cracks. The actions of this AD are intended to prevent an unsafe condition on these products.

DATES: This AD is effective June 27, 2018.

The Director of the Federal Register approved the incorporation by reference of certain documents listed in this AD as of June 27, 2018.

ADDRESSES: For service information identified in this final rule, contact Airbus Helicopters, Inc., 2701 N Forum Drive, Grand Prairie, TX 75052; telephone (972) 641-0000 or (800) 232-0323; fax (972) 641-3775; or at http://www.airbushelicopters.com/techpub. You may review the referenced service information at the FAA, Office of the Regional Counsel, Southwest Region, 10101 Hillwood Pkwy., Room 6N-321, Fort Worth, TX 76177. It is also available on the internet at http://www.regulations.gov by searching for and locating Docket No. FAA-2015-3883.

Examining the AD Docket

You may examine the AD docket on the internet at http://www.regulations.gov by searching for and locating Docket No. FAA-2015-3883; or in person at Docket Operations between 9 a.m. and 5 p.m., Monday through Friday, except Federal holidays. The AD docket contains this AD, the European Aviation Safety Agency (EASA) AD, any incorporated-by-reference service information, the economic evaluation, any comments received, and other information. The street address for Docket Operations (phone: 800-647-5527) is U.S. Department of Transportation, Docket Operations, M-30, West Building Ground Floor, Room W12-140, 1200 New Jersey Avenue SE, Washington, DC 20590.

FOR FURTHER INFORMATION CONTACT: Gary Roach, Aviation Safety Engineer, Regulations & Policy Section, Rotorcraft Standards Branch, FAA, 10101 Hillwood Pkwy., Fort Worth, TX 76177; telephone (817) 222-5110; email gary.b.roach@faa.gov.

SUPPLEMENTARY INFORMATION:

Discussion

On January 5, 2016, at 81 FR 191, the Federal Register published our notice of proposed rulemaking (NPRM), which proposed to amend 14 CFR part 39 by adding an AD that would apply to Model AS332L2 and Model EC225LP helicopters with an extended aluminum splice installed on frame 5295. The NPRM proposed to require installing a cut-out for the LH and RH rail support junction profiles and inspecting splices, frame 5295, and related equipment for a crack. The proposed requirements were intended to detect a crack in frame 5295, which could lead to structural failure of the frame and loss of control of the helicopter.

The NPRM was prompted by AD No. 2014-0098-E, dated April 25, 2014, issued by EASA, which is the Technical Agent for the Member States of the European Union, to correct an unsafe condition for Model AS332L2 and EC225LP helicopters. EASA AD No. 2014-0098-E applies to helicopters with a frame 5295 that have been reinforced by installing aluminium splices on the RH and LH fuselage external skins. EASA advises of a report of a crack that initiated on a splice in an area hidden by the overlapping junction profile of the cabin sliding door rail support and then spread to the frame.

EASA states that a crack in frame 5295, if not detected and corrected, could lead to loss of structural integrity of the helicopter frame and subsequent loss of control of the helicopter. To address this condition, EASA issued AD No. 2014-0098-E to require repetitive inspections of the splices for a crack, as well as cutting out the rail support junction profiles to provide a convenient access to identify cracks in a splice.

Since the NPRM was issued, the FAA's Aircraft Certification Service has changed its organizational structure. The new structure replaces product directorates with functional divisions. We have revised some of the office titles and nomenclature throughout this Final rule to reflect the new organizational changes. Additional information about the new structure can be found in the Notice published on July 25, 2017 (82 FR 34564).

Comments

After our NPRM was published, we received comments from a commenter who raised three issues.

Request

The commenter requested that we revise the applicability of the AD to exempt helicopters that are “post mod 07 26493 or RDAS 332-1284-13.”

We partially agree. Modification (MOD) 0726493 or repair design approval sheet (RDAS) 332-1284-13 specify installing a stainless steel doubler to reduce stress in the splice and frame, thereby eliminating the unsafe condition. We disagree with exempting “post mod” helicopters, however, as the stainless steel doubler could be removed (subjecting the helicopter again to the unsafe condition) and the helicopter would still be in a “post mod” configuration. Instead, we have changed the applicability to exempt helicopters with the steel splice kit installed that pertains to MOD 0726493.

The commenter requested that we revise the compliance time of the AD to include the flow charts from the Airbus Helicopters service information. The commenter states that this information would explain the steps involved to operators to eliminate the unsafe condition. The commenter also requested that we clarify the compliance times as discussed in the preamble of the NPRM, because they appear different from those in the service information and the EASA AD.

We disagree. The commenter is correct that the compliance times in our AD are different, in some measure, to those in the EASA AD. But the compliance times in the AD are clear as written. The requested change is unnecessary.

The commenter requested that we withdraw the AD because all helicopters in the U.S. fleet have either installed the cut-out or are scheduled for installation of the cut-out.

We disagree. The FAA has determined that an unsafe condition exists. AD action is required to mandate corrective action for this unsafe condition. In addition, if additional helicopters are imported into the United States, AD action is necessary to require that those helicopters accomplish the corrective actions before operating in this country.

FAA's Determination

These helicopters have been approved by the aviation authority of France and are approved for operation in the United States. Pursuant to our bilateral agreement with France, EASA, its technical representative, has notified us of the unsafe condition described in the EASA AD. We are issuing this AD because we evaluated all information provided by EASA, reviewed the relevant information, considered the comments received, and determined the unsafe condition exists and is likely to exist or develop on other helicopters of these same type designs and that air safety and the public interest require adopting the AD requirements as proposed with the change described previously and with a revision to the estimated costs of complying with this AD. These changes are consistent with the intent of the proposals in the NPRM and will not increase the economic burden on any operator nor increase the scope of the AD.

Differences Between This AD and the EASA AD

The EASA AD requires contacting Airbus Helicopters if there is a crack in the affected parts. This AD makes no such requirement.

The EASA AD sets various timelines for repairing affected parts if a crack exists. This AD requires repairing affected parts before further flight if a crack exists.

Related Service Information Under 1 CFR Part 51

We reviewed Airbus Helicopters Alert Service Bulletin (ASB) No. EC225-05A038 for Model EC225LP helicopters and ASB No. AS332-05.00.97 for Model AS332L2 helicopters. The ASBs, both Revision 0 and both dated April 15, 2014, report cracks were found in the splice and frame 5295 on a Model AS332L2 helicopter during a major inspection. The splice had been added in compliance with MOD 0726517. Had an optional rail support cut-out been accomplished on the aircraft to allow for a visual check of the splice for frame 5295, it would have revealed the crack in the splice, prompting its repair and consequently limiting the damage to frame 5295. As a result, the ASBs call for the rail support cut-out on the RH and LH side of the frame as well as periodic visual inspections of frame 5295 and related equipment.

This service information is reasonably available because the interested parties have access to it through their normal course of business or by the means identified in the ADDRESSES section.

Other Related Service Information

We reviewed Eurocopter Helicopters (now Airbus Helicopters) Service Bulletin (SB) No. 53-003, Revision 4, for Model EC225LP helicopters and SB No. 53.01.52, Revision 5, for Model AS332L2 helicopters, both dated July 23, 2010. The SBs specify procedures to reinforce frame 5295 by installing a new titanium plate underneath the fitting and a new widened aluminum splice below the upper corner of the door. We also reviewed Airbus Helicopters SB No. 05-019, Revision 4, dated September 22, 2014, for Model EC225LP helicopters, which proposes that you cut out the junction profiles to perform periodic visual inspections.

Costs of Compliance

We estimate that this AD affects 4 helicopters of U.S. Registry. We estimate that operators may incur the following costs in order to comply with this AD. Labor costs average $85 a work-hour. Based on these estimates, we expect the following costs:

Installing the cut-outs on frame 5295 requires 40 work-hours for a labor cost of $3,400. Parts cost $5,000 for total cost per helicopter of $8,400 and $33,600 for the U.S. fleet.

Inspecting helicopter frame 5295 requires 2 work-hours for a labor cost of $170 per helicopter. No parts are needed for a total U.S. fleet cost of $680 per inspection cycle.

Repairing a splice requires 40 work-hours and a parts cost of $5,000 for a total cost of $8,400 per helicopter.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-11-01 Airbus Helicopters: Amendment 39-19289; Docket No. FAA-2015-3883; Product Identifier 2014-SW-029-AD.

(a) Applicability

This AD applies to Model AS332L2 and Model EC225LP helicopters, certificated in any category, with an extended aluminum splice installed on frame 5295, except helicopters with steel splice kit part number 332A08-2649-3072 installed.

Note 1 to paragraph (a) of this AD: Helicopters with Modification (MOD) 0726517 have an extended aluminum splice installed.

(b) Unsafe Condition

This AD defines the unsafe condition as a crack on helicopter frame 5295. This condition could result in structural failure of the frame and subsequent loss of control of the helicopter.

(c) Effective Date

This AD becomes effective June 27, 2018.

(d) Compliance

You are responsible for performing each action required by this AD within the specified compliance time unless it has already been accomplished prior to that time.

(e) Required Actions

(1) Before a splice reaches 1,700 hours time-in-service (TIS), within 50 hours TIS, or before the helicopter reaches 11,950 hours TIS, whichever occurs later, do the following:

(i) Install the rail support cut-out and identify the right-hand and left-hand junction profile in accordance with the Accomplishment Instructions, paragraph 3.B.2, of Airbus Helicopters Alert Service Bulletin (ASB) No. EC225-05A038, Revision 0, dated April 15, 2014 (ASB EC225-05A038), or ASB No. AS332-05.00.97, Revision 0, dated April 15, 2014 (ASB AS332-05.00.97), whichever is applicable to your helicopter.

(ii) Inspect each splice for a crack in the area depicted as Area Y in Figure 3 of ASB EC225-05A038 or ASB AS332-05.00.97, whichever is applicable to your helicopter. If a crack exists, repair or replace the splice before further flight.

(2) Thereafter at intervals not to exceed 110 hours TIS, inspect each splice for a crack in the area depicted as Area Y in Figure 3 of ASB EC225-05A038 or ASB AS332-05.00.97. If a crack exists, repair or replace the splice before further flight.

(f) Credit for Actions Previously Completed

Installing rail support cut-outs in accordance with MOD 0728090 or Airbus Helicopters Service Bulletin No. 05-019, Revision 4, dated September 22, 2014, before the effective date of this AD is considered acceptable for compliance with the corresponding actions specified in paragraph (e)(1)(i) of this AD.

(g) Alternative Methods of Compliance (AMOCs)

(1) The Manager, Safety Management Section, Rotorcraft Standards Branch, FAA, may approve AMOCs for this AD. Send your proposal to: Gary Roach, Aviation Safety Engineer, Regulations & Policy Section, Rotorcraft Standards Branch, FAA, 10101 Hillwood Pkwy., Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

(1) Airbus Helicopters Service Bulletin (SB) No. 05-019, Revision 4, dated September 22, 2014, and Eurocopter Helicopters (now Airbus Helicopters) SB No. 53-003, Revision 4, and SB No. 53.01.52, Revision 5, both dated July 23, 2010, which are not incorporated by reference, contain additional information about the subject of this AD. For service information identified in this AD, contact Airbus Helicopters, Inc., 2701 N. Forum Drive, Grand Prairie, TX 75052; telephone (972) 641-0000 or (800) 232-0323; fax (972) 641-3775; or at http://www.airbushelicopters.com/techpub. You may view the referenced service information at the FAA, Office of the Regional Counsel, Southwest Region, 10101 Hillwood Pkwy., Room 6N-321, Fort Worth, TX 76177.

(2) The subject of this AD is addressed in European Aviation Safety Agency (EASA) AD No. 2014-0098-E, dated April 25, 2014. You may view the EASA AD on the internet at http://www.regulations.gov in Docket No. FAA-2015-3883.

(i) Subject

Joint Aircraft Service Component (JASC) Code: 5310, Fuselage Main, Structure.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Airbus Helicopters Alert Service Bulletin No. EC225-05A038, Revision 0, dated April 15, 2014.

(ii) Airbus Helicopters Alert Service Bulletin No. AS332-05.00.97, Revision 0, dated April 15, 2014.

(3) For Airbus Helicopters service information identified in this AD, contact Airbus Helicopters, Inc., 2701 N. Forum Drive, Grand Prairie, TX 75052; telephone (972) 641-0000 or (800) 232-0323; fax (972) 641-3775; or at http://www.airbushelicopters.com/techpub.

(4) You may view this service information at the FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on May 16, 2018.
Scott A. Horn,
Deputy Director for Regulatory Operations, Compliance & Airworthiness Division, Aircraft Certification Service.

[FR Doc. 2018-10921 Filed 5-22-18; 8:45 am]

BILLING CODE 4910-13-P